DEPARTMENT OF THE TREASURY

Internal Revenue Service

Internal Revenue Service Advisory Council; Renewal of Charter

AGENCY: Internal Revenue Service, Department of Treasury.

ACTION: Notice of charter renewal.

SUMMARY: The Charter for the Internal Revenue Service Advisory Council (IRSAC), has been renewed for two years beginning October 17, 2018, in accordance with the Federal Advisory Committee Act (FACA), 5 U.S.C., App. 2.

FOR FURTHER INFORMATION CONTACT: Anna Millikan at (202) 317-6564, or send an email to publicliaison@irs.gov.

SUPPLEMENTARY INFORMATION: Notice is hereby given that the charter for the Internal Revenue Service Advisory Council (IRSAC) has been renewed for two years beginning October 17, 2018, in accordance with the Federal Advisory Committee Act (FACA), 5 U.S.C., App. 2.

The purpose of the IRSAC is to provide an organized public forum for discussion of relevant tax administration issues between Internal Revenue Service (IRS) officials and representatives of the public. Beginning in 2019, the IRSAC will incorporate the Advisory Committee on Tax Exempt and Government Entities (ACT) and the Information Reporting Program Advisory Committee IRPAC), which will cease to function as separate committees at the end of 2018.

The IRSAC proposes enhancements to IRS operations, recommends administrative and policy changes to improve taxpayer service, compliance and tax administration, discusses relevant information reporting issues, addresses matters concerning tax-exempt and government entities and conveys the public's perception of professional standards and best practices for tax professionals.

Conveying the public's perception of IRS activities to Internal Revenue Service officials, the IRSAC is comprised of individuals representing a cross-section of the taxpaying public with substantial, disparate experience in: Tax preparation for individuals, small businesses and/or large, multi-national corporations; information reporting; tax-exempt and government entities; digital services; and professional standards of tax professionals.

Dated: November 2, 2018.
John Lipold,
Chief, Relationship Management & Tax Forums.

[FR Doc. 2018-24414 Filed 11-7-18; 8:45 am]

BILLING CODE 4830-01-P